ENVIRONMENTAL PROTECTION AGENCY

[MN89; FRL-9094-5]

Notice of Issuance Federal Operating Permit to Great Lakes Gas Transmission Limited Partnership

AGENCY: Environmental Protection Agency (EPA).

ACTION: Notice.

SUMMARY: This notice announces that, on October 2, 2009, pursuant to Title V of the Clean Air Act, EPA issued a Title V Permit to Operate (Title V permit) to Great Lakes Gas Transmission Limited Partnership (Great Lakes Gas). This permit authorizes Great Lakes Gas to operate two natural gas-fired turbine/compressors and one natural gas-fired standby electrical generator at Compressor Station #4 (CS#4) near Deer River, Minnesota. CS#4, which is located on privately-owned fee land within the exterior boundaries of the Leech Lake Band of Ojibwe Indian Reservation, adds pressure to natural gas in Great Lakes' pipeline, causing the natural gas to flow to the next compressor station.

DATES: During the public comment period, which ended August 24, 2009, EPA received timely written comments from Great Lakes Gas on the draft Title V permit. EPA responded to these comments and issued the final permit on October 2, 2009. No one appealed the final permit to the Environmental Appeals Board, therefore, in accordance with 40 CFR 71.11(i)(2), the final permit became effective 30 days after issuance, on November 2, 2009.

ADDRESSES: The final signed permit and the response to comment document is available for public inspection online at http://yosemite.epa.gov/r5/r5ard.nsf/Tribal+Permits!OpenView, or during normal business hours at the following address: EPA, Region 5, 77 West Jackson Boulevard (AR-18J), Chicago, Illinois 60604.

FOR FURTHER INFORMATION CONTACT: Genevieve Damico, Environmental Engineer, EPA, Region 5, 77 West Jackson Boulevard (AR-18J), Chicago, Illinois 60604, (312) 353-4761, or damico.genevieve@epa.gov.

SUPPLEMENTARY INFORMATION: This supplemental information is organized as follows:

A. What is the Background Information?

B. What is the Purpose of This Notice?

A. What is the Background Information?

Great Lakes Gas operates nearly 2,000 miles of large diameter underground pipeline, which transports natural gas for delivery to customers in the midwestern and northeastern United States and eastern Canada. The Great Lakes pipeline system and other interstate natural gas transmission pipelines make up the long-distance link between natural gas production fields, local distribution companies, and end users. The pipeline's 14 compressor stations, located approximately 75 miles apart, operate to keep natural gas moving through the system. Compressors at these stations add pressure to natural gas in the pipeline, causing it to flow to the next compressor station. The pipeline normally operates continuously, but at varying load, 24 hours per day and 365 days per year. CS#4 currently consists of two stationary natural gas-fired turbines, which in turn drive two natural gas compressors. Additionally, one natural gas-fired standby electrical generator provides electrical power for critical operations during temporary electrical power outages and during peak loading.

CS#4 is located approximately 3 miles west of the City of Deer River, in Itasca County, Minnesota. The area is designated attainment for all criteria pollutants. CS#4, which occupies an area of approximately 20 acres, is owned and maintained by Great Lakes Gas on privately-owned fee land within the exterior boundaries of the Leech Lake Band of Ojibwe Indian Reservation. EPA is responsible for issuing and enforcing any air quality permits for the source until such time that the Tribe has EPA approval to do so.

CS#4 is subject to Title V because it has the potential to emit greater than 100 tons per year of nitrogen oxide and carbon monoxide. Great Lakes Gas submitted to EPA on February 25, 2009, a Title V permit application to renew its 2004 Title V operating permit for CS#4. On July 23, 2009, EPA published a draft Title V permit to operate for public comment. The public comment period ended on August 24, 2009. We received written comments from Great Lakes Gas on the permit. EPA responded to these comments and issued the final permit on October 2, 2009. No one appealed the final permit to the Environmental Appeals Board, therefore, in accordance with 40 CFR 71.11(i)(2), this permit became effective 30 days after issuance, on November 2, 2009.

EPA is not aware of any outstanding enforcement actions against Great Lakes Gas and believes the issuance of this permit is non-controversial.

B. What is the Purpose of This Notice?

EPA is notifying the public of the October 2, 2009 issuance and November 2, 2009 effective dates of the Great Lakes Gas CS#4 Title V permit.

Dated: December 10, 2009.
Walter W. Kovalick, Jr.
Acting Regional Administrator, Region 5.

[FR Doc. E9-30407 Filed 12-21-09; 8:45 am]

BILLING CODE 6560-50-P